FEDERAL COMMUNICATIONS COMMISSION

47 CFR Part 2

[ET Docket No. 20-382: FCC 21-72; FR ID 80780]

Allowing Earlier Equipment Marketing and Importation Opportunities

AGENCY: Federal Communications Commission.

ACTION: Final rule; announcement of effective date.

SUMMARY: The Federal Communications Commission (Commission) announces that the Office of Management and Budget (OMB) has approved, for a period of three years, the new information collection associated with the Commission's Allowing Earlier Equipment Marketing and Importation Opportunities, Report and Order. This document is consistent with the Report and Order, which stated that the Commission would publish a document in the Federal Register announcing OMB approval and the effective date of the rules related to the information collection. The Commission also corrects a cross reference in the regulatory text.

DATES: The amendments to 47 CFR 2.803(c)(2)(i) and 2.1204(a)(11) published at 86 FR 52088, September 20, 2021, are effective April 12, 2022. The amendment to 47 CFR 2.803(c)(2)(i)(D) in this document is effective April 12, 2022.

FOR FURTHER INFORMATION CONTACT: Jamie Coleman, Office of Engineering and Technology Bureau, at (202) 418-2705, or email: Jamie.Coleman@fcc.gov.

For additional information concerning the Paperwork Reduction Act information collection requirements, contact Nicole Ongele at (202) 418-2991 or nicole.ongele@fcc.gov.

SUPPLEMENTARY INFORMATION: This document announces that, on March 10, 2022, OMB approved, for a period of three years, the information collection requirements relating to the marketing of radio frequency devices prior to equipment authorization and import conditions rules contained in the Commission's Allowing Earlier Equipment Marketing and Importation Opportunities, Report and Order, FCC 21-72 (86 FR 52088, September 20, 2021). The OMB Control Number is 3060-0773. The Commission publishes this document as an announcement of the effective date of the information collection requirements provided at 47 CFR 2.803(c)(2)(i) and 2.1204(a)(11).

Synopsis

As required by the Paperwork Reduction Act of 1995 (44 U.S.C. 3507), the FCC is notifying the public that it received final OMB approval on March 10, 2022, for the information collection requirements contained in the Commission's rules in 47 CFR part 2.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0773.

The foregoing notification is required by the Paperwork Reduction Act of 1995, Public Law 104-13, October 1, 1995, and 44 U.S.C. 3507.

The total annual reporting burdens and costs for the respondents are as follows:

OMB Control Number: 3060-0773.

OMB Approval Date: March 10, 2022.

OMB Expiration Date: March 31, 2025.

Title: Sections 2.803, 2.803(c)(2) and 2.1204(a)(11), Marketing and Importing of RF Devices Prior to Equipment Authorization.

Form Number: N/A. Respondents: Business or other for-profit.

Number of Respondents and Responses: 10,000 respondents; 10,000 responses.

Estimated Time per Response: 1 hour.

Frequency of Response: Recordkeeping requirement, third-party disclosure requirement and on occasion and one-time requirements.

Obligation to Respond: Required to obtain or retain benefits. The statutory authority for this information collection is contained in sections 47 U.S.C. 154(i), 301, 302a, 303(c), 303(f), and 303(r).

Total Annual Burden: 10,000 hours.

Total Annual Cost: No Cost. Nature and Extent of Confidentiality: No information is requested that would require assurance of confidentiality.

Privacy Act Impact Assessment: No impact(s).

Needs and Uses: On June 17, 2021, the Federal Communications Commission released a Report and Order, Allowing Earlier Equipment Marketing and Importation Opportunities, ET Docket No. 20-382, 86 FR 52088, September 20, 2021. Among other adopted rules intended to target enhancements to our marketing and importation rules, the Commission amended the 47 CFR part 2 rules that allow equipment manufacturers to better gauge consumer interest and prepare for new product launches.

List of Subjects in 47 CFR Part 2

Communications equipment, Radio, Telecommunications.

Federal Communications Commission.
Marlene Dortch,
Secretary, Office of the Secretary.

The Federal Communications Commission amends 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

§ 2.803 [Amended]

2. In § 2.803(c)(2)(i)(D), remove “(c)(2)(i)(B)(1)” and add “(c)(2)(i)(C)(1)” in its place.

[FR Doc. 2022-07607 Filed 4-11-22; 8:45 am]

BILLING CODE 6712-01-P